DEPARTMENT OF HEALTH AND HUMAN SERVICES

Agency for Toxic Substances and Disease Registry

Community/Tribal Subcommittee and the Board of Scientific Counselors, Agency for Toxic Substances and Disease Registry: Meetings.

In accordance with section 10(a)(2) of the Federal Advisory Committee Act (Pub. L. 92-463), the Agency for Toxic Substances and Disease Registry (ATSDR) announces the following subcommittee and committee meetings.

Name: Community/Tribal Subcommittee (CTS).

Times and Dates:

8:30 a.m.-4 p.m., November 28, 2000

8:30 a.m.-4 p.m., November 29, 2000

Place: The Westin Peachtree Plaza Hotel, 210 Peachtree Street, NW., Atlanta, Georgia 30303.

Status: Open to the public, limited by the available space. The meeting room accommodates approximately 60 people.

Purpose: This subcommittee brings to the Board advice, citizen input, and recommendations on community and tribal programs, practices, and policies of the Agency.

Matters To Be Discussed: Agenda items include an update on Action Items and Recommendations from previous meeting; CTS update on Cultural Sensitivity Training; discussion on implementation of task forces; discussion of Freedom of Information Act (FOIA) process at Department of Defense and Department of Energy sites; update on the Office of Urban Affairs health intervention and health care activities at sites; and, an update on Research Agenda Building activities.

Name: Board of Scientific Counselors, ATSDR.

Times and Dates:

8:30 a.m.-5:05 p.m., November 30, 2000.

8:30 a.m.-12:10 p.m., December 1, 2000.

Place: The Westin Peachtree Plaza Hotel, 210 Peachtree Street, NW., Atlanta, Georgia 30303.

Status: Open to the public, limited by the available space. The meeting room accommodates approximately 60 people.

Purpose: The Board of Scientific Counselors, ATSDR, advises the Secretary; the Assistant Secretary for Health; and the Administrator, ATSDR, on ATSDR programs to ensure scientific quality, timeliness, utility, and dissemination of results. Specifically, the Board advises on the adequacy of science in ATSDR-supported research, emerging problems that require scientific investigations, accuracy and currency of the science in ATSDR reports, and program areas to emphasize or de-emphasize. In addition, the Board recommends research programs and conference support for which the Agency awards grants to universities, colleges, research institutions, hospitals, and other public and private organizations.

Matters To Be Discussed: Agenda items will include ATSDR updates; review of the ATSDR Research Agenda, and a review of the public comments and implementation plans; discussion on exposure investigations and biomarkers; discussion on current events impacting ATSDR; an overview of Community and Tribal Subcommittee meeting issues and recommendations; discussion of activities related to Libby, Montana, growth of environmental pediatric units, and Minority Health Program; and, an overview on ATSDR new directions. Written comments are welcomed and should be received by the contact person listed below prior to the opening of the meeting.

Agenda items are subject to change as priorities dictate.

Contact Person for More Information: Robert Spengler, Sc.D., Executive Secretary, BSC, ATSDR, M/S E-28, 1600 Clifton Road, NE, Atlanta, Georgia 30333, telephone 404/639-0708.

The Director, Management Analysis and Services Office, has been delegated the authority to sign Federal Register notices pertaining to announcements of meetings and other committee management activities for both CDC and the Agency for Toxic Substances and Disease Registry.

Dated: October 17, 2000.
Carolyn J. Russell,
Director, Management Analysis and Services Office, Centers for Disease Control and Prevention.

[FR Doc. 00-27374 Filed 10-24-00; 8:45 am]

BILLING CODE 4163-70-P